DEPARTMENT OF COMMERCE

International Trade Administration

[A-122-605, A-588-609, A-580-605, A-559-601]

Revocation of Antidumping Duty Orders: Color Picture Tubes From Canada, Japan, the Republic of Korea, and Singapore

AGENCY: Import Administration, International Trade Administration, Department of Commerce.

ACTION: Notice of revocation of antidumping duty orders: Color picture tubes from Canada, Japan, the Republic of Korea, and Singapore.

SUMMARY: Pursuant to section 751(c) of the Tariff Act of 1930, as amended (“the Act”), the United States International Trade Commission (“the Commission”) determined that revocation of the antidumping duty orders on color picture tubes (“CPTs”) from Canada, Japan, the Republic of Korea (“Korea”), and Singapore, is not likely to lead to continuation or recurrence of material injury to an industry in the United States within a reasonably foreseeable time (65 FR 17901 (April 5, 2000)). Therefore, pursuant to section 751(d)(2) of the Act and 19 CFR 351.222(i)(1), the Department of Commerce (“the Department”) is revoking the antidumping duty orders on CPTs from Canada, Japan, Korea, and Singapore. Pursuant to section 751(c)(6)(A)(iv) of the Act and 19 CFR 351.222(i)(2), the effective date of revocation is January 1, 2000.

FOR FURTHER INFORMATION CONTACT: Darla D. Brown, Office of Policy for Import Administration, International Trade Administration, U.S. Department of Commerce, 14th Street and Constitution Avenue, NW, Washington, DC 20230; telephone: (202) 482-3207.

EFFECTIVE DATE: January 1, 2000.

Background

On March 1, 1999, the Department initiated, and the Commission instituted, sunset reviews (64 FR 9970 and 64 FR 10014, respectively) of the antidumping duty orders on CPTs from Canada, Japan, Korea, and Singapore, pursuant to section 751(c) of the Act. As a result of these reviews, the Department found that revocation of the antidumping duty orders would be likely to lead to continuation or recurrence of dumping and notified the Commission of the magnitude of the margin likely to prevail were the antidumping orders revoked (see Final Results of Expedited Sunset Reviews: Color Picture Tubes from Canada, Japan, the Republic of Korea, and Singapore, 64 FR 48354 (September 3, 1999)).

On April 5, 2000, the Commission determined, pursuant to section 751(c) of the Act, that revocation of the antidumping duty orders on CPTs from Canada, Japan, Korea, and Singapore would not likely lead to continuation or recurrence of material injury to an industry in the United States within a reasonably foreseeable time (see Color Picture Tubes from Canada, Japan, Korea and Singapore, 65 FR 17901 (April 5, 2000)).

Scope

The merchandise subject to these antidumping duty orders is color picture tubes from Canada, Japan, Korea, and Singapore. The subject merchandise is defined as cathode ray tubes suitable for use in the manufacture of color television receivers or other color entertainment display devices intended for television viewing. Where a CPT is shipped and imported together with all parts necessary for assembly into a complete television receiver (i.e., as a “kit”), the CPT is excluded from the scope of these orders. In other words, a kit and a fully assembled television are a separate class or kind of merchandise from the CPT. Accordingly, the Department determined that, when CPTs are shipped together with other parts as television receiver kits, they are excluded from the scope of the order. With respect to CPTs which are imported for customs purposes as incomplete televison assemblies, we determined that these entries are included within the scope of these investigations unless both of the following criteria are met: (1) The CPT is “physically integrated” with other television receiver components in such a manner as to constitute one inseparable amalgam and (2) the CPT does not constitute a significant portion of the cost or value of the items being imported.¹ Such merchandise was classifiable under Harmonized Tariff Schedule (HTS) item numbers 8540.11.00.10, 8540.11.00.20, 8540.11.00.30, 8540.11.00.40, 8540.11.00.50 and 8540.11.00.60. However, due to changes in the HTS, the subject merchandise is currently classifiable under HTS items 8540.11.10, 8540.11.24, 8540.11.28, 8540.11.30, 8540.11.44, 8540.11.48, and 8540.11.50. The HTS item numbers are provided for convenience and customs purposes only. The written description remains dispositive.

¹ See Antidumping Duty Order and Amendment to Final Determination of Sales at Less Than Fair Value; Color Picture Tubes From Japan, 53 FR 430 (January 7, 1988).

Determination

As a result of the determination by the Commission that revocation of these antidumping duty orders is not likely to lead to continuation or recurrence of material injury to an industry in the United States, the Department, pursuant to section 751(d)(2) of the Act and 19 CFR 351.222(i)(1), is revoking the antidumping duty orders on CPTs from Canada, Japan, Korea, and Singapore. Pursuant to section 751(c)(6)(A)(iv) of the Act and 19 CFR 351.222(i)(2)(ii), this revocation is effective January 1, 2000. The Department will instruct the U.S. Customs Service to discontinue the suspension of liquidation and collection of cash deposit rates on entries of the subject merchandise entered or withdrawn from warehouse on or after January 1, 2000 (the effective date). The Department will complete any pending administrative reviews of these orders and will conduct administrative reviews of subject merchandise entered prior to the effective date of revocation in response to appropriately filed requests for review.

Dated: April 12, 2000.
Troy H. Cribb,
Acting Assistant Secretary for Import Administration.

[FR Doc. 00-9686 Filed 4-17-00; 8:45 am]

BILLING CODE 3510-DS-P